FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans No. | ET req status | Party name
14-AUG-09 | 20090623 | G | PartnerRe Ltd.
|  | G | PARIS RE Holdings Limited.
|  | G | PARIS RE Holdings Limited.
| 20090627 | G | Oglethorpe Power Corporation.
|  | G | International Power plc.
|  | G | Hartwell Energy Limited Partnership.
| 20090630 | G | Oglethorpe Power Corporation.
|  | G | Natural Gas Partners VIII, L.P.
|  | G | Hartwell Energy Limited Partnership.
| 20090644 | G | Career Education Corporation.
|  | G | Stitching LA Fondation Andre Cointreau.
|  | G | Le Cordon BIeu International B.V.
18-AUG-09 | 20090648 | G | McAfee, Inc.
|  | G | MX Logic, Inc.
|  | G | MX Logic, Inc.
20-AUG-09 | 20090427 | G | Arch Coal, Inc.
|  | G | Rio unto plc.
|  | G | Jacobs Ranch Coal LLC.
| 20090448 | G | Oracle Corporation.
|  | G | Sun Microsystems, Inc.
|  | G | Sun Microsystems, Inc.
21-AUG-09 | 20090655 | G | Sprint Nextel Corporation.
|  | G | Virgin Mobile USA, Inc.
|  | G | Virgin Mobile USA, Inc.
| 20090657 | G | ArcLight Energy Partners Fund III, L.P.
|  | G | PPL Corporation.
|  | G | PPL Maine, LLC.
| 20090661 | G | ArcLight Energy Partners Fund IV, L.P.
|  | G | PPL Corporation.
|  | G | PPL Maine, LLC.
| 20090665 | G | Targa Resources Partners LP.
|  | G | Targa Resources Investments Inc.
|  | G | Targa LSNG GP LLC.
|  | G | Targa LSNG LP.
|  | G | Targa Downstream GP LLC.
|  | G | Targa Downstream LP.
24-AUG-09 | 20090647 | G | Aetna Inc.
|  | G | Psychiatric Solutions, Inc.
|  | G | Horizon Behavioral Services, LLC.
| 20090653 | G | Manulife Financial Corporation.
|  | G | PPL Corporation.
|  | G | PPL Edgewood Energy, LLC.
|  | G | PPL Shoreham Energy, LLC.
| 20090654 | G | Electric Power Development Co., Ltd.
|  | G | PPL Corporation.
|  | G | PPL Edgewood Energy, LLC.
|  | G | PPL Shoreham Energy, LLC.
25-AUG-09 | 20090664 | G | Sentara Healthcare.
|  | G | Potomac Hospital Foundation.
|  | G | Potomac Hospital Corporation of Prince William.
| 20090645 | G | lochpe-Maxion S.A.
|  | G | ArvinMeritor, Inc.
|  | G | ArvinMeritor OE, LLC.
|  | G | Meritor LVS S.A. de C.V.
|  | G | Servicios Corporativos ArvinMeritor, S.A. de C.V.
|  | G | Meritor Comercio Industria de Sistemas Automotivos Ltda.
28-AUG-09 | 20090672 | G | JPMorgan Chase & Co.
|  | G | ArthroCare Corporation.
|  | G | ArthroCare Corporation.
| 20090676 | G | Noble Group Limited.
|  | G | SemGroup, L.P.-Debtor-in-Possession.
|  | G | SemFuel, L.P.-Debtor-in-Possession.
01-SEP-09 | 20090626 | G | Kurosawa B.V.
|  | G | William B. Dunavant, Jr.
|  | G | Dunavant Enterprises, Inc.
| 20090677 | G | Frontier Communications Corporation.
|  | G | Verizon Communications Inc.
|  | G | New Communications Holdings, Inc.
| 20090687 | G | Inverness Medical Innovations, Inc.
|  | G | Free & Clear, Inc.
|  | G | Free & Clear, Inc.
02-SEP-09 | 20090679 | G | LS Power Equity Partners II, L.P.
|  | G | Dynegy, Inc.
|  | G | Sandy Creek Services, LLC.
|  | G | Riverside Generating Company, L.L.C.
|  | G | Renaissance Power, LLC.
|  | G | Bridgeport Energy LLC.
|  | G | Bluegrass Generation Company, L.LC.
|  | G | Dynegy Sandy Creek Holdings, LLC.
| 20090680 | G | LS Power Equity Partners, L.P.
|  | G | Dynegy, Inc.
|  | G | Tilton Energy LLC.
|  | G | Griffith Energy LLC.
|  | G | Dynegy Arlington Valley, LLC.
|  | G | Rocky Road Power, LLC.
| 20090690 | G | General Motors Company.
|  | G | Delphi Corporation.
|  | G | DIP Holdco LLP.
03-SEP-09 | 20090401 | G | Fidelity National Information Services, Inc.
|  | G | Metavante Technologies, Inc.
|  | G | Metavante Technologies, Inc.
04-SEP-09 | 20090697 | G | Electric Power Development Co., Ltd.
|  | G | General Electric Company.
|  | G | Birchwood Power Partners, L.P.
| 20090702 | G | Joe and Marlene Ricketts Grandchildren's Trust.
|  | G | Tribune Company.
|  | G | Chicago Baseball Holdings, LLC.
| 20090704 | G | STG III, L.P.
|  | G | MSC.Software Corporation.
|  | G | MSC.Software Corporation.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. E9-25377 Filed 10-21-09; 8:45 am]

BILLING CODE 6750-01-M